DEPARTMENT OF LABOR

Office of the Secretary

North American Agreement on Labor Cooperation Notice of Determination Regarding Review of Submission #2015-04

AGENCY: Bureau of International Labor Affairs, U.S. Department of Labor.

ACTION: Notice.

SUMMARY: The Office of Trade and Labor Affairs (OTLA) gives notice that on January 11, 2016, Submission #2015-04 regarding Mexico was accepted for review pursuant to Article 16(3) of the North American Agreement on Labor Cooperation (NAALC).

On November 12, 2015, the United Food & Commercial Workers Local 770, the Frente Auténtico del Trabajo, the Los Angeles Alliance for a New Economy, and the Project on Organizing, Development, Education, and Research, provided a submission to OTLA, through Change to Win, alleging violations of the NAALC by the Government of Mexico (GOM). U.S. Submission #2015-04 alleges that the GOM has failed to meet its obligations under the NAALC, including to effectively enforce its labor laws with respect to freedom of association, collective bargaining, discrimination, minimum labor standards, occupational safety and health, and workers' compensation and to ensure that its labor law proceedings are fair, equitable, and transparent.

OTLA's decision to accept the submission for review is not intended to indicate any determination as to the validity or accuracy of the allegations contained in the submission. The objective of the review will be to gather information so that OTLA can better understand the allegations contained in the submission and publicly report on the issues raised therein in light of the GOM's obligations under the NAALC. As set out in the Procedural Guidelines (published as 71 FR 76691 (2006)), OTLA will complete the review and issue a public report to the Secretary of Labor within 180 days of this acceptance, unless circumstances, as determined by OTLA, require an extension of time.

DATES: Effective Date: January 11, 2016.

FOR FURTHER INFORMATION CONTACT: Matthew Levin, Director, OTLA, U.S. Department of Labor, 200 Constitution Avenue NW., Room S-5303, Washington, DC 20210. Telephone: (202) 693-4900. (This is not a toll-free number.)

SUPPLEMENTARY INFORMATION: Article 16(3) of the NAALC requires that each Party's National Administrative Office provide for the submission and receipt of public communications (“submissions”) regarding labor law matters arising in the territory of another Party and review those submissions in accordance with domestic procedures. A Federal Register notice issued on December 21, 2006, informed the public that the OTLA had been designated as the office to serve as the contact point for implementing the labor provisions of United States free trade agreements and had retained the functions of, and designation as, the National Administrative Office to administer Departmental responsibilities under the NAALC. The same Federal Register notice informed the public of the Procedural Guidelines that OTLA would follow for the receipt and review of public submissions (71 FR 76691 (2006)). These Procedural Guidelines are available at http://www.dol.gov/ilab/media/pdf/2006021837.pdf. According to the definitions contained in the Procedural Guidelines (Section B) a “submission” is “a communication from the public containing specific allegations, accompanied by relevant supporting information, that another Party has failed to meet its commitments or obligations arising under a labor chapter” of a U.S. free trade agreement or Part Two of the NAALC.

The Procedural Guidelines specify that OTLA shall consider six factors, to the extent that they are relevant, in determining whether to accept a submission for review:

1. Whether the submission raises issues relevant to any matter arising under a labor chapter or the NAALC;

2. Whether a review would further the objectives of a labor chapter or the NAALC;

3. Whether the submission clearly identifies the person filing the submission, is signed and dated, and is sufficiently specific to determine the nature of the request and permit an appropriate review;

4. Whether the statements contained in the submission, if substantiated, would constitute a failure of the other Party to comply with its obligations or commitments under a labor chapter or the NAALC;

5. Whether the statements contained in the submission or available information demonstrate that appropriate relief has been sought under the domestic laws of the other Party, or that the matter or a related matter is pending before an international body; and

6. Whether the submission is substantially similar to a recent submission and significant, new information has been furnished that would substantially differentiate the submission from the one previously filed.

U.S. Submission #2015-04 alleges that the GOM has failed to meet its obligations under the NAALC, including to effectively enforce its labor laws with respect to freedom of association, collective bargaining, discrimination, minimum labor standards, occupational safety and health, and workers' compensation and to ensure that its labor law proceedings are fair, equitable, and transparent.

In determining whether to accept the submission, OTLA considered the statements in the submission in light of the relevant factors identified in the Procedural Guidelines. The submission raises issues relevant to multiple NAALC Labor Principles. The submission clearly identifies the submitters, is signed and dated, and is sufficiently specific to determine the nature of the request and permit an appropriate review. The submission raises pertinent issues that could further the objectives of the NAALC and that could, if substantiated, constitute a failure of the GOM to comply with its obligations under the NAALC. The submitters provided both general information and specific worker interview results related to alleged protection contracts and a description of methodology and efforts to gain access to registered collective bargaining agreements through Web sites and GOM officials. The submission notes that issues raised in the submission have not been remedied to date. OTLA has not received similar submissions related to the NAALC obligations of the GOM. Accordingly, OTLA has accepted the submission for review.

OTLA's decision to accept the submission for review is not intended to indicate any determination as to the validity or accuracy of the allegations contained in the submission. The objective of the review will be to gather information so that OTLA can better understand the allegations contained in the submission and to publicly report on the issues raised therein. As set out in the Procedural Guidelines, OTLA will complete the review and issue a public report to the Secretary of Labor within 180 days, unless circumstances, as determined by OTLA, require an extension of time. The public report will include a summary of the review process, as well as any findings and recommendations.

Signed in Washington, DC, on January 7, 2016.
Carol Pier,
Deputy Undersecretary for International Affairs.

[FR Doc. 2016-00436 Filed 1-11-16; 8:45 am]

BILLING CODE 4510-28-P